DEPARTMENT OF HEALTH AND HUMAN SERVICES

Substance Abuse and Mental Health Services Administration

Office for Women's Services; Notice of Meeting

Pursuant to Public Law 92-463, notice is hereby given of the meeting of the Advisory Committee for Women's Services of the Substance Abuse and Mental Health Services Administration (SAMHSA) on September 29, 2000.

The meeting of the Advisory Committee for Women's Services will include a discussion of policy and program issues relating to women's substance abuse and mental health service needs; the SAMHSA fiscal year 2000 budget; specific Committee goals for the current year, consideration of the March 30, 2000 meeting minutes; and other policy issues.

A summary of the meeting and/or a roster of committee members may be obtained from: Nancy P. Brady, Executive Secretary, Advisory Committee for Women's Services, Office for Women's Services, SAMHSA, Parklawn Building, Room 13-99, 5600 Fishers Lane, Rockville, Maryland 20857, Telephone: (301) 443-8964.

Substantive information may be obtained from the contact whose name and telephone number is listed below.

Committee Name: Advisory Committee for Women's Services.

Meeting Date: September 29, 2000.

Meeting Time: 9 a.m.-4 p.m.

Place: Doubletree Hotel—Rockville, 1750 Rockville Pike, Rockville, MD 20852.

Open: September 29, 2000.

Contact: Nancy P. Brady, Room 13-99, Parklawn Building, Telephone: (301) 443-8964.

Dated: August 22, 2000.
Toian Vaughn,
Committee Management Officer, Substance Abuse and Mental Health, Services Administration.

[FR Doc. 00-22447 Filed 8-31-00; 8:45 am]

BILLING CODE 4162-20-P